DEPARTMENT OF TRANSPORTATION

Federal Aviation Administration

Ninth Joint Meeting, RTCA Special Committee 205IEUROCAE Working Group 71: Software Considerations in Aeronautical Systems Fourth Joint Plenary Meeting

AGENCY: Federal Aviation Administration (FAA), DOT.

ACTION: Notice of RTCA Special Committee 205/EUROCAE Working Group 71 meeting.

SUMMARY: The FAA is issuing this notice to advise the public of a meeting of RTCA Special Committee 205IEUROCAE Working Group 71: Software Considerations in Aeronautical Systems.

DATES: The meeting will be held November 17-21, 2008, from 8:30 a.m.-5:30 p.m.

ADDRESSES: The meeting will be held at Phoenix Sky Harbor Airport, 4300 East Washington, Phoenix, Arizona 85034.

FOR FURTHER INFORMATION CONTACT: (1) RTCA Secretariat, 1828 L Street, NW., Suite 805, Washington, DC 20036; telephone (202) 833-9339; fax (202) 833-9434; Web site http://www.rtca.org; (2) Hotel Front Desk: (602) 273-7778; fax (602) 275-5616.

SUPPLEMENTARY INFORMATION: Pursuant to section 10(a)(2) of the Federal Advisory Committee Act (Pub. L. 92-463, 5 U.S.C., Appendix 2), notice is hereby given for a Special Committee 205/EUROCAE Working Group 71 meeting. The agenda will include:

November 17:

• Opening Plenary Session (Welcome and Introductory Remarks, Review of Meeting Agenda and Previous Minutes).

• Reports of Sub-Group Activity Since January 2008.

• Other Committee/Other Documents Interfacing Personnel Reports (CAST, Unmanned Aircraft Systems, Security, WG-63/SAE S-18).

• Plenary Text Acceptance (for papers posted, commented on and reworked prior to Plenary).

• Sub-Group Break Out Sessions.

• Executive Committee and SG Chairs/Secretaries Meeting.

November 18:

• Sub-Group Break Out Sessions.

• Mandatory Paper Reading Sessions.

• Executive Committee and SG Chairs/Secretaries Meeting.

November 19:

• IP Comment Reply & Sub-Group Break Out Sessions.

• Plenary Text Acceptance (for papers posted, commented on and reworked prior to Plenary).

• Sub-Group Break Out Sessions.

• CAST Meeting (Close of Day).

• Executive Committee and SC Chairs/Secretaries Meeting.

November 20:

• Sub-Group Break Out Sessions.

• Mandatory Paper Reading Session.

• Executive Committee and SC Chairs/Secretaries Meeting.

November 21:

• IP Comment Reply & Sub-Group Break Out Sessions.

Plenary Text Approval (reworked and late posted papers).

• SGI: SCWG Document Integration Sub-Group.

• SG2: Issue & Rationale Sub-Group.

• SG3: Tool Qualification Sub-Group.

• SG4: Model Based Design and Verification Sub-Group.

• SG5: Object Oriented Technology Sub-Group.

• SG6: Formal Methods Sub-Group.

• SG7: Special Considerations Sub-Group.

Closing Plenary Session (Other Business, Date and Place of Next Meeting, Meeting Evaluation, Adjourn).

Attendance is open to the interested public but limited to space availability. With the approval of the chairmen, members of the public may present oral statements at the meeting, persons wishing to present statements or obtain information should contact the person listed in the FOR FURTHER INFORMATION CONTACT section. Members of the public may present a written statement to the committee at any time.

Issued in Washington, DC, on September 9, 2008.
Robert L. Bostiga,
RTCA Advisory Committee (Acting).

[FR Doc. E8-21510 Filed 9-16-08; 8:45 am]

BILLING CODE 4910-13-M